DEPARTMENT OF DEFENSE

Department of the Navy

Notice of Intent To Grant Exclusive License; ORBIS Wheels, Inc.

AGENCY: Department of the Navy, DoD.

ACTION: Notice.

SUMMARY: The invention listed below is assigned to the United States Government as represented by the Secretary of the Navy. The Department of the Navy hereby gives notice of its intent to grant to ORBIS Wheels, Inc., a revocable, nonassignable, co-exclusive license to practice in the United States, the Government-owned invention described below: U.S. Patent Application Number 62/632,550 (Navy Case 200456): filed February 20, 2018, entitled “HYPER-COMPACT ELECTRIC ALL-TERRAIN VEHICLE DRIVETRAIN AND CONVERSION KIT.”

DATES: Anyone wishing to object to the grant of this license must file written objections along with supporting evidence, if any, not later than February 21, 2019.

ADDRESSES: Written objections are to be filed with Naval Surface Warfare Center, Crane Div, Code OOL, Bldg 2, 300 Highway 361, Crane, IN 47522-5001.

FOR FURTHER INFORMATION CONTACT: Mr. Christopher Monsey, Naval Surface Warfare Center, Crane Div, Code OOL, Bldg 2, 300 Highway 361, Crane, IN 47522-5001, telephone 812-854-4100.

(Authority: 35 U.S.C. 207, 37 CFR part 404.)

Dated: February 1, 2019.
Meredith Steingold Werner,
Commander, Judge Advocate General's Corps, U.S. Navy, Federal Register Liaison Officer.

[FR Doc. 2019-01201 Filed 2-5-19; 8:45 am]

BILLING CODE 3810-FF-P